DEPARTMENT OF STATE

[Public Notice 7164]

Notice of Intent To Establish the President's Emergency Plan for AIDS Relief (PEPFAR) Scientific Advisory Board, Hereinafter Referred to as “the Board”

SUMMARY: This is a notice of intent to establish The President's Emergency Plan for AIDS Relief (PEPFAR) Scientific Advisory Board, hereinafter referred to as “the Board.”

The Board serves the Global AIDS Coordinator (“the Coordinator”) in a solely advisory capacity concerning scientific, implementation, and policy issues related to the global response to HIV/AIDS. These issues will be of concern as they influence the priorities and direction of PEPFAR evaluation and research, the content of national and international strategies and implementation, and the role of PEPFAR in the international discourse regarding appropriate and resourced responses.

The Board will be composed of 25 to 30 members appointed by the Coordinator, representing U.S. Government and non-U.S. Government personnel. The membership will be representative of the HIV/AIDS community, academia, international experts, partner government representatives, multilateral and bilateral agency representatives, foundations, advocates, and non-governmental organizations. Members who are not U.S. employees will be representative members.

Public notice of all meetings of the Panel will be provided in the Federal Register in accordance with the FACA.

FOR FURTHER INFORMATION CONTACT: Paul D. Bouey, Office of the U.S. Global AIDS Coordinator, Washington, DC 20037, BoueyPD@state.gov.

This certification will be published in the Federal Register.

Dated: September 27, 2010.
Paul D. Bouey,
Deputy Coordinator, Office of the U.S. Global AIDS Coordinator, Department of State.

[FR Doc. 2010-24691 Filed 9-30-10; 8:45 am]

BILLING CODE 4710-10-P